DEPARTMENT OF HEALTH AND HUMAN SERVICES

Centers for Disease Control and Prevention (CDC)

Request for Nominations of Candidates To Serve on the Board of Scientific Counselors, Coordinating Center for Infectious Diseases (BSC, CCID)

CDC is soliciting nominations for possible membership on the BSC, CCID. This board provides advice and guidance to the Secretary, Department of Health and Human Services (HHS), the Director, CDC, and the Director, CCID, concerning strategies and goals for the programs and research within the national centers; shall conduct peer-review of scientific programs; and monitor the overall strategic direction and focus of the national centers. The board shall also monitor program organization and resources for infectious disease prevention and control.

Nominations are being sought for individuals who have the expertise and qualifications necessary to contribute to the accomplishment of the board's objectives. Nominees will be selected by the Secretary, HHS, or designee, from authorities knowledgeable in the fields relevant to the issues addressed by the CCID and related disciplines, including: Epidemiology; microbiology; bacteriology; virology; parasitology; mycology; immunology; public health; entomology; bioterrorism threats; clinical medicine; ecology; and from the general public. Federal employees will not be considered. Members may be invited to serve for terms of up to four years.

Consideration is given to representation from diverse geographic areas, both genders, ethnic and minority groups, and the disabled. Nominees must be U.S. citizens.

The following information must be submitted for each candidate: Name, affiliation, address, telephone number, e-mail address, and current curriculum vitae.

Nominations should be accompanied with a letter of recommendation stating the qualifications of the nominee and postmarked by March 20, 2009 to: Harriette Lynch, Coordinating Center for Infectious Diseases, Office of the Director, CDC, 1600 Clifton Road, NE., Mailstop E-77, Atlanta, Georgia 30333, Telephone (404) 498-2726.

The Director, Management Analysis and Services Office, has been delegated the authority to sign Federal Register notices pertaining to announcements of meetings and other committee management activities for both CDC and the Agency for Toxic Substances and Disease Registry.

Dated: February 25, 2009.
Elaine L. Baker,
Director, Management Analysis and Services Office, Centers for Disease Control and Prevention.

[FR Doc. E9-4475 Filed 3-2-09; 8:45 am]

BILLING CODE 4163-18-P